DEPARTMENT OF THE INTERIOR

[FWS-R4-ES-2018-N116; FVHC98220410150-XXX-FF04G01000]

Deepwater Horizon Oil Spill Florida Trustee Implementation Group Draft Restoration Plan 1 and Environmental Assessment: Habitat Projects on Federally Managed Lands; Nutrient Reduction; Water Quality; and Provide and Enhance Recreational Opportunities

AGENCY: Department of the Interior.

ACTION: Notice of availability; request for comments, public meeting and webinar.

SUMMARY: In accordance with the Oil Pollution Act (OPA), the National Environmental Policy Act (NEPA), the Deepwater Horizon Oil Spill Final Programmatic Damage Assessment and Restoration Plan and Final Programmatic Environmental Impact Statement (Final PDARP/PEIS), and the resulting Consent Decree, the Federal natural resource trustee agencies for the Florida Trustee Implementation Group (FL TIG) have prepared a Draft Restoration Plan 1 and Environmental Assessment (Draft RP1/EA). The Draft RP1/EA describes restoration alternatives considered by the FL TIG and proposes 24 preferred alternatives intended to continue the process of restoring natural resources and services injured or lost as a result of the Deepwater Horizon oil spill, which occurred on or about April 20, 2010, in the Gulf of Mexico. The purpose of this notice is to inform the public of the availability of the Draft RP1/EA and to seek public comments on the document.

DATES: Submitting Comments: The FL TIG will consider public comments received on or before October 26, 2018.

Public Meeting and Webinar: The FL TIG will conduct one public meeting and one webinar to facilitate public review and comment on the Draft RP1/EA. The public meeting and webinar will include presentation of the Draft RP1/EA. Comments will be taken through submission in person at the public meeting, online, or through U.S. mail (see Submitting Comments in ADDRESSES). Comments will be accepted during the public webinar. The public meeting and webinar are scheduled as follows:

Webinar
Date | Time | Link
October 10, 2018 | 1:30-4:00 p.m. ET | Webinar link will be provided at http://www.gulfspillrestoration.noaa.gov/restoration-areas/florida.

ADDRESSES: Obtaining Documents: You may download the Draft RP1/EA from either of the following websites:

• http://www.gulfspillrestoration.noaa.gov

• http://www.doi.gov/deepwaterhorizon

Alternatively, you may request a CD of the Draft RP1/EA (see FOR FURTHER INFORMATION CONTACT).

Submitting Comments: You may submit comments on the Draft RP1/EA by one of the following methods:

• Via the Web: http://www.gulfspillrestoration.noaa.gov.

• Via U.S. Mail: U.S. Fish and Wildlife Service, P.O. Box 49567, Atlanta, GA 30345. In order to be considered, mailed comments must be postmarked on or before the comment deadline given in DATES.

• During the public meeting. (See DATES for more information.)

• During the public webinar. (See DATES for more information.)

FOR FURTHER INFORMATION CONTACT: Nanciann Regalado, via email at nanciann_regalado@fws.gov or via phone at 404-679-4161.

SUPPLEMENTARY INFORMATION:

Introduction

In accordance with the Oil Pollution Act (OPA; 33 U.S.C. 2701 et seq.); the National Environmental Policy Act of 1969, as amended (NEPA; 42 U.S.C. 4321 et seq.); the Deepwater Horizon Oil Spill Final Programmatic Damage Assessment and Restoration Plan and Final Programmatic Environmental Impact Statement (Final PDARP/PEIS); and the resulting Consent Decree, the Federal natural resource trustee agencies for the Florida Trustee Implementation Group (FL TIG) have prepared a Draft Restoration Plan 1 and Environmental Assessment (Draft RP1/EA). The Draft RP1/EA describes restoration alternatives considered by the FL TIG and proposes 24 preferred alternatives intended to continue the process of restoring natural resources and services injured or lost as a result of the Deepwater Horizon oil spill, which occurred in 2010 in the Gulf of Mexico. The four restoration types addressed in the Draft RP 1/EA are Habitat Projects on Federally Managed Lands; Nutrient Reduction; Water Quality; and Providing and Enhancing Recreational Opportunities. The FL TIG evaluated these alternatives under criteria set forth in the OPA Natural Resource Damage Assessment (NRDA) regulations at 15 CFR part 990, and also evaluated the environmental consequences of the restoration alternatives in accordance with NEPA. The purpose of this notice is to inform the public of the availability of the Draft RP1/EA and to seek public comments on the document.

Background

On or about April 20, 2010, the Deepwater Horizon (DWH) mobile drilling unit exploded, resulting in loss of life and a massive release of oil and natural gas from the British Petroleum Exploration and Production, Inc. (BP) Macondo well. Initial efforts to cap the well were unsuccessful, resulting in 87 days of continuous discharge into the northern Gulf of Mexico, totaling approximately 3.19 million barrels (134 million gallons) of oil. Oil spread from the deep ocean to the surface and nearshore environment from Texas to Florida, coming into contact and injuring a diverse set of natural resources. Extensive response actions, including cleanup activities and actions to prevent the oil from reaching sensitive resources, were undertaken; however, many of these response actions had collateral impacts on the environment and natural resource services.

The Trustees conducted the NRDA for the Deepwater Horizon oil spill under the OPA. Pursuant to the OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (i.e., the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection (FDEP) and Fish and Wildlife Conservation Commission (FWC); and

• State of Texas: Texas Parks and Wildlife Department, Texas General Land Office, and Texas Commission on Environmental Quality.

The Trustees reached and finalized a settlement of their natural resource damage claims with BP in an April 4, 2016, Consent Decree approved by the United States District Court for the Eastern District of Louisiana. Pursuant to that Consent Decree, restoration projects in the Florida Restoration Area are now selected and implemented by the FL TIG. The FL TIG is composed of two State Trustees and four Federal Trustees: FDEP, FWC, DOI, NOAA, EPA, and USDA.

On November 4, 2016, the FL TIG posted a public notice at http://www.gulfspillrestoration.noaa.gov requesting new or revised natural resource restoration project ideas by December 5, 2016, for the FL Restoration Area. The notice stated that the FL TIG was seeking project ideas for the following Restoration Types: (1) Habitat Projects on Federally Managed Lands; (2) Nutrient Reduction; (3) Water Quality; and (4) Provide and Enhance Recreational Opportunities.

On September 29, 2017, the FL TIG announced that it had initiated drafting of its first post-settlement draft restoration plan, and that the first plan would include restoration projects for Habitat Projects on Federally Managed Lands; Nutrient Reduction; Water Quality; and Provide and Enhance Recreational Opportunities.

Overview of the FL TIG Draft RP1/EA

The Draft RP1/EA is being released in accordance with OPA, NRDA regulations, NEPA, the Consent Decree, and the Final PDARP/PEIS. The 24 preferred restoration alternatives include Habitat Projects on Federally Managed Lands at Gulf Islands National Seashore (FL) and St. Vincent National Wildlife Refuge; Nutrient Reduction projects in Pensacola Bay, Perdido River and Lower Suwannee River Watersheds; projects that restore Water Quality in Pensacola Bay Watershed, Carpenter Creek, Pensacola Beach, Rattlesnake Bluff Road, Alligator Lake, St. Andrew Bay, City of Port St. Joe, City of Carrabelle, Lower Suwanee National Wildlife Refuge and Charlotte Harbor; and projects that Provide and Enhance Recreation Opportunities in Perdido River, Carpenter Creek, Gulf Islands National Seashore (FL), Joe's Bayou, St. Marks National Wildlife Refuge and the following State parks: Topsail Hill, Camp Helen, St. Andrews State Park, and T.H. Stone Memorial St. Joseph Peninsula.

In compliance with NEPA, an environmental assessment is integrated into the plan. The FL TIG also analyzes eight additional alternatives, as well as no action. One or more alternatives may be selected for implementation by the FL TIG in the Final RP1/EA or in future restoration plans.

The proposed alternatives are intended to continue the process of using DWH restoration funding to restore natural resources injured or lost as a result of the Deepwater Horizon oil spill. Additional restoration planning for the FL Restoration Area will continue.

Next Steps

As described above, one public open house/meeting and one public webinar are scheduled to facilitate the public review and comment process on the Draft RP1/EA. After the public comment period ends, the FL TIG will consider and address the comments received before issuing the Final RP1/EA.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for the Draft RP1/EA can be viewed electronically at https://www.doi.gov/deepwaterhorizon/adminrecord.

Authority

The authority for this action is the Oil Pollution Act of 1990 (33 U.S.C. 2701 et seq.) and its implementing Natural Resource Damage Assessment regulations found at 15 CFR part 990, and the National Environmental Policy Act of 1969, as amended (42 U.S.C. 4321 et seq.).

Kevin D. Reynolds,
Assistant Regional Director—Gulf Restoration, FWS; Department of the Interior Natural Resource Trustee Official for the Florida Trustee Implementation Group.

[FR Doc. 2018-21601 Filed 10-5-18; 8:45 am]

BILLING CODE 4333-15-P